FEDERAL RETIREMENT THRIFT INVESTMENT BOARD

Notice of Board Meeting

DATES: September 27, 2022 at 10 a.m.

ADDRESSES: Telephonic. Dial-in (listen only) information: Number: 1-202-599-1426, Code: 235 010 430#; or via web: https://teams.microsoft.com/l/meetup-join/19%3ameeting_ZjIwOTFmZDctZjcxNC00MDk2LThlMGUtZDRmNTc1OGZlZDE2%40thread.v2/0?context=%7b%22Tid%22%3a%223f6323b7-e3fd-4f35-b43d-1a7afae5910d%22%2c%22Oid%22%3a%227c8d802c-5559-41ed-9868-8bfad5d44af9%22%7d.

FOR FURTHER INFORMATION CONTACT: Kimberly Weaver, Director, Office of External Affairs, (202) 942-1640.

SUPPLEMENTARY INFORMATION:

Board Meeting Agenda

Open Session

1. Approval of the August 24, 2022 Board Meeting Minutes

2. Monthly Reports

(a) Participant Activity Report

(b) Investment Report

(c) Legislative Report

3. Quarterly Report

(d) Vendor Risk Management Update

4. Participant Survey Report

5. Behavioral Science Update

6. Internal Audit Update

Closed Session

7. Information covered under 5 U.S.C. 552b(c)(9)(B), (c)(10).

Authority: 5 U.S.C. 552b(e)(1).

Dated: September 15, 2022.
Dharmesh Vashee,
General Counsel, Federal Retirement Thrift Investment Board.

[FR Doc. 2022-20336 Filed 9-20-22; 8:45 am]

BILLING CODE 6760-01-P